DEPARTMENT OF THE INTERIOR

Minerals Management Service

Outer Continental Shelf (OCS), Eastern Planning Area, Oil and Gas Lease Sale 197 (2005)

AGENCY: Minerals Management Service (MMS), Interior.

ACTION: Preparation of an environmental assessment.

SUMMARY: The MMS is beginning preparation of an environmental assessment (EA) for proposed Lease Sale 197 (scheduled for March 2005) in the Eastern Planning Area (EPA) of the Gulf of Mexico (GOM). The geographic area for proposed Lease Sale 197 is shown on the map published with this Notice; it is the same area that was offered in Lease Sale 181 held in December 2001 and Lease Sale 189 in December 2003. The preparation of this EA is the first step in the decision process for Lease Sale 197. The proposal and alternative for Lease Sale 197 were identified by the MMS Director in February 2002 following the Call for Information and Nominations/Notice of Intent to Prepare an Environmental Impact Statement (EIS) and were analyzed in the Final Environmental Impact Statement for Gulf of Mexico OCS Oil and Gas Lease Sales: 2003 and 2005; Eastern Planning Area Sales 189 and 197 (Final EIS). A proposed action offering all available unleased acreage in the EPA and the No Action alternative were analyzed in the Final EIS. The analysis in the EA will reexamine the potential environmental effects of the proposed action and its alternative based on any new information regarding potential impacts and issues that were not available at the time the Final EIS was prepared.

FOR FURTHER INFORMATION CONTACT: Mr. Dennis Chew, Minerals Management Service, Gulf of Mexico OCS Region, 1201 Elmwood Park Boulevard, New Orleans, Louisiana 70123-2394. You may also contact Mr. Chew by telephone at (504) 736-2793.

SUPPLEMENTARY INFORMATION: In May 2003, MMS prepared a Final EIS that addressed two proposed Federal actions that offer for lease areas on the Eastern GOM OCS that may contain economically recoverable oil and gas resources. Federal regulations allow for several related or similar proposals to be analyzed in one EIS (40 CFR 1502.4). Since each proposed lease sale and its projected activities are very similar, a single EIS was prepared for the two EPA lease sales scheduled in the Outer Continental Shelf Oil and Gas Leasing Program: 2002-2007 (the 5-Year Program). Under the 5-Year Program, proposed Lease Sale 189 was held in 2003, while proposed Lease Sale 197 is scheduled for 2005. An additional National Environmental Policy Act review will be conducted to address any new information relevant to proposed Lease Sale 197. After completion of the EA, MMS will determine whether to prepare a Finding of No New Significant Impact (FONNSI) or a Supplemental EIS. The MMS will then prepare and send Consistency Determinations (CD's) to the affected States to determine whether Lease Sale 197 is consistent with their federally-approved State coastal zone management programs. Finally, MMS will solicit comments via the Proposed Notice of Sale (PNOS) from the governors of the affected States on the size, timing, and location of Lease Sale 197. The tentative schedule for the prelease decision process for Lease Sale 197 is as follows: EA FONNSI or Supplemental EIS decision, October 2004; CD's sent to the affected States, October 2004; PNOS sent to governors of affected States, October 2004; Final Notice of Sale published in the Federal Register, February 2005; and Lease Sale 197, March 2005.

Public Comments: Federal, State, and local governmental agencies, and other interested parties are requested to send within 30 days of this Notice's publication comments regarding any new information or issues that should be addressed in the EA to the Regional Supervisor, Leasing and Environment (MS 5410), Gulf of Mexico OCS Region, Minerals Management Service, 1201 Elmwood Park Boulevard, New Orleans, Louisiana 70123-2394. Comments should be enclosed in an envelope labeled “Comments on EPA Lease Sale 197 EA.” You may also send comments to the MMS email address: environment@mms.gov. Comments, including the names and home addresses of respondents, will be made available for public review during regular business hours. You may request that your name, home address, or both be withheld from the public record by stating so at the beginning of your submission. The MMS will honor such a request to the extent allowable by law. All comments submitted by organizations and businesses or by individuals identifying themselves as representatives of organizations and businesses will be made available for inspection in their entirety. Anonymous comments will not be considered. To obtain single copies of the Final EIS, you may contact the Minerals Management Service, Gulf of Mexico OCS Region, Attention: Public Information Office (MS 5034), 1201 Elmwood Park Boulevard, Room 114, New Orleans, Louisiana 70123-2394 (1-800-200-GULF). You may also view the Final EIS or check the list of libraries that have copies of the Final EIS and their locations on the MMS Web site at http://www.gomr.mms.gov.

Dated: April 22, 2004.
Chris C. Oynes,
Regional Director, Gulf of Mexico OCS Region.

BILLING CODE 4310-MR-P

[FR Doc. 04-12286 Filed 6-3-04; 8:45 am]

BILLING CODE 4310-MR-C